SECURITIES AND EXCHANGE COMMISSION

Issuer Delisting; Notice of Application To Withdraw From Listing and Registration; (Alcan Aluminium Limited, Common Shares, No Par Value) File No. 1-03677

October 18, 2000.

Alcan Aluminium Limited, which is organized under the laws of Canada (“Company”), has filed an application with the Securities and Exchange Commission (“Commission”), pursuant to Section 12(d) of the Securities Exchange Act of 1934 (“Act”) ¹ and Rule 12d-2(d) thereunder, ² to withdraw its Common Shares, no par value (“Security”), from listing and registration on the Pacific Exchange, Inc. (“PCX”) and on the Chicago Stock Exchange, Inc. (“CHX”).

¹ 15 U.S.C. 78l(d).

² 17 CFR 240.12d2-2(d).

In addition to being listed on the PCX and CHX, the Security is currently listed on the New York Stock Exchange, Inc. (“NTSE”) and trades on numerous markets around the world. The Company has determined to reduce the number of listings for its Security in order to concentrate trading on a limited number of exchanges. The Company will therefore continue to maintain its listed status on the NYSE, as well as its listings on the Toronto, London, and Swiss stock exchanges.

The Company has stated in its application that the PCX and the CHX have indicated that they will not oppose withdrawal of the Security from its respective listings. The application shall not have any effect on either the Security's continued listing on the NYSE or its registration under Section 12(b) of the Act.³

³ 15 U.S.C. 78l(b).

Any interested person may, on or before November 8, 2000, submit by letter to the Secretary of the Securities and Exchange Commission, 450 Fifth Street, NW., Washington, DC 20549-0609, facts bearing upon whether the application has been made in accordance with the respective rules of the PCX and CHX and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 00-27236 Filed 10-23-00; 8:45 am]

BILLING CODE 8010-01-M